DEPARTMENT OF ENERGY

Energy Information Administration

Agency Information Collection Proposed Extension

AGENCY: U.S. Energy Information Administration (EIA), Department of Energy (DOE).

ACTION: Notice and request for comments.

SUMMARY: EIA, pursuant to the Paperwork Reduction Act of 1995, intends to extend (with changes) for three years with the Office of Management and Budget (OMB), Form GC-859 Nuclear Fuel Data Survey, OMB Control Number 1901-0287. Form GC-859 Nuclear Fuel Data Survey collects data on spent nuclear fuel from all utilities that operate commercial nuclear reactors and from all others that possess irradiated fuel from commercial nuclear reactors.

DATES: Comments regarding this proposed information collection must be received on or before May 17, 2022. If you anticipate difficulty in submitting comments within that period, contact the person listed in ADDRESSES as soon as possible.

ADDRESSES: Submit comments electronically to Bonnie Gajewski at Bonnie.Gajewski@eia.gov or mail comments to U.S. Energy Information Administration, Attn: Bonnie Gajewski/Form GC-859 Survey Team, Office of Energy Production & Markets Analysis (EI-31), 1000 Independence Avenue SW, Washington, DC 20585.

FOR FURTHER INFORMATION CONTACT: If you need additional information, contact Bonnie Gajewski, U.S. Energy Information Administration, via email at Bonnie.Gajewski@eia.gov, or by telephone (202) 586-2415. Current and proposed Form GC-859 and instructions are available on EIA's website at https://www.eia.gov/survey/#gc-859.

SUPPLEMENTARY INFORMATION: Comments are invited on: (a) Whether the proposed collection of information is necessary for the proper performance of the functions of the agency, including whether the information might have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1901-0287;

(2) Information Collection Request Title: Nuclear Fuel Data Survey;

(3) Type of Request: Renewal;

(4) Purpose: The Nuclear Waste Policy Act of 1982 (42 U.S.C. 10101 et seq.) authorized DOE to enter into Standard Contracts with generators or owners of spent nuclear fuel and high-level radioactive waste of domestic origin. Form GC-859 (formerly Form RW-859) originated from an appendix to this Standard Contract. Form GC-859 Nuclear Fuel Data Survey collects information on nuclear fuel use and spent fuel discharges from all utilities that operate commercial nuclear reactors and from others that possess irradiated fuel from commercial nuclear reactors. The data collection provides stakeholders with detailed information concerning the spent nuclear fuel generated by the respondents (commercial utility generators of spent nuclear fuel and other owners of spent nuclear fuel within the U.S.).

Data collected from the survey are utilized by personnel from DOE Office of Nuclear Energy (NE), DOE Office of Environmental Management (EM), and the national laboratories to meet their research objectives of developing a range of options and supporting analyses that facilitate informed choices about how best to manage spent nuclear fuel (SNF);

(4a) Proposed Changes to Information Collection:

• Collection method. DOE will provide respondents with an online platform to facilitate their responses. The Form GC-859 data collection system is automated. Respondents will also be provided with electronic files to aid in the current submittal and operating instructions for the software. To the greatest extent practicable, respondents will provide data either in the data collection system or as any commonly readable, present-day electronic spreadsheet file type. The following website will be used to submit data: https://gc859.ornl.gov. Alternatively, a standalone copy of the submission software may be requested from the EIA GC-859 Survey Team contact identified earlier in the FOR FURTHER INFORMATION CONTACT section of this notice.

• Appendix E, Fuel Assembly Type Codes has been modified to include codes submitted on the 2018 data collection that were not already on the list, for the respondents convenience.

(5) Annual Estimated Number of Respondents: 125;

(6) Annual Estimated Number of Total Responses: 42;

(7) Annual Estimated Number of Burden Hours: 3,680;

(8) Annual Estimated Reporting and Recordkeeping Cost Burden: The information is maintained in the normal course of business. The cost of the burden hours is estimated to be $306,838 (3,680 burden hours times $83.38 per hour). EIA estimates that there are no additional costs to respondents associated with the survey other than the costs associated with the burden hours. EIA estimates that respondents will have no additional costs associated with the surveys other than the burden hours and the maintenance of the information during the normal course of business.

Statutory Authority: Section 13(b) of the Federal Energy Administration Act of 1974, Public Law 93-275, codified as 15 U.S.C. 772(b) and the DOE Organization Act of 1977, Public Law 95-91, codified at 42 U.S.C. 7101 et seq. The Nuclear Waste Policy Act of 1982 codified at 42 U.S.C. 10222 et seq.

Signed in Washington, DC, on March 15, 2022.
Samson A. Adeshiyan,
Director, Office of Survey Methods and Research, U.S. Energy Information Administration.

[FR Doc. 2022-05770 Filed 3-17-22; 8:45 am]

BILLING CODE 6450-01-P